EXECUTIVE OFFICE OF THE PRESIDENT

Office of National Drug Control Policy

Drug-Free Communities Support Program National Evaluation and STOP Act Program National Evaluation; Proposed Information Collection; Notice of 60-Day Public Comment Period

AGENCY: Executive Office of the President, Office of National Drug Control Policy.

ACTION: Notice of 60-day public comment period.

SUMMARY: In compliance with the requirement of Section 3506(c)(2)(A) of the Paperwork Reduction Act of 1995, the Executive Office of the President, Office of National Drug Control Policy, Drug Free Communities (DFC) Support Program is publishing the following summary of proposed information collections for public comment. This notice also includes a summary of proposed information collection for the Substance Abuse and Mental Health Services Administration Sober Truth on Preventing Underage Drinking (STOP Act) Program, which will fund current and past DFC grantees. The STOP program will be evaluated based on the same data already being collected for the ONDCP DFC program. No additional data will be required of respondents. Interested persons are invited to send comments regarding this burden estimate or any other aspect of this collection of information, including any of the following subjects: (1) The necessity and utility of the proposed information collection for the proper performance of the programs' functions; (2) the accuracy of the estimated burden; (3) ways to enhance the quality, utility and clarity of the information to be collected; and (4) the use of automated collection techniques or other forms of information technology to minimize the information collection burden.

Executive Office of the President, Office of National Drug Control Policy is requesting OMB review and approval of this information collection. Written comments and/or recommendations will be accepted from the public if received by the individuals designated below within 60 days from the date of publication.

Type of Information Collection Request: New collection.

Title: Drug-Free Communities (DFC) Support Program National Evaluation; Sober Truth on Preventing Underage Drinking (STOP Act) Program National Evaluation.

Use:

1. The DFC Support Program is an integral component of the National Drug Control Strategy and a requirement of Healthy People 2010. The DFC has two primary goals: (1) Reduce substance abuse among youth by addressing local risk and protective factors to minimize the likelihood of subsequent substance abuse in the community; and (2) support community anti-drug coalitions in becoming self-sufficient by establishing, strengthening, and fostering collaboration among public and private nonprofit agencies, as well as federal, state, local, and tribal governments to prevent and reduce substance abuse.

A National Evaluation of the DFC Support Program commenced in September 2004 to assess the program's implementation and effectiveness. The major purpose of the DFC Support Program National Evaluation is to design and implement a rigorous evaluation and to support an effective grant monitoring and tracking system.

The National Evaluation will make use of two separate collection instruments to gather information. The Monitoring and Tracking Questionnaire (online tool) will serve as a semi-annual report for DFC grantees and will provide information for ONDCP, SAMHSA and the National Evaluation. The Typology Classification Questionnaire will be used on an annual basis to classify respondents into a coalition typology developed by the evaluation contractor and will provide information for ONDCP and the National Evaluation.

Frequency: Semi-annually and annually.

Affected Public: Anti-Drug Coalitions.

Type of Respondents: Directors of Anti-Drug Coalitions or their designees.

2. The purpose of the STOP Act program is to prevent and reduce alcohol use among youth in communities throughout the United States. It was created to strengthen collaboration among communities, the Federal Government, and State, local and tribal governments; to enhance intergovernmental cooperation and coordination on the issue of alcohol use among youth; to serve as a catalyst for increased citizen participation and greater collaboration among all sectors and organizations of a community that first demonstrates a long-term commitment to reducing alcohol use among youth; and to disseminate to communities timely information regarding state-of-the-art practices and initiatives that have proven to be effective in preventing and reducing alcohol use among youth.

The statutory authority for this program limits eligibility to domestic public and private nonprofit entities that are currently grantee organizations receiving or having received grant funds under the Drug-Free Communities Program (DFC). STOP Act grants are authorized under the Public Health Service (PHS) Act (42 U.S.C. 290bb-25b), Section 519B.

The National Evaluation will make use of one collection instrument to gather information. The Monitoring and Tracking Questionnaire (online tool) will serve as a semi-annual report for STOP Act grantees and will provide information for SAMHSA.

Frequency: Semi-annually.

Affected Public: Current or prior Drug Free Communities Anti-Drug Coalitions.

Type of Respondents: Directors or their designees.

Estimated annual burden is as follows:

Type of respondents | Estimated number of respondents | Estimated number of responses per respondent | Average burden per response (in hours) | Total annual burden (in hours)
Instrument: Monitoring and Tracking Questionnaire (Quarterly Report)
DFC Grantee Program Directors* | 735 | 2 | 3.0 | 4410
STOP Act (Prior DFC ) Grantee Program Directors** | 16 | 2 | 3.0 | 96
Instrument: Typology Classification Questionnaire
DFC Grantee Program Directors | 735 | 1 | .75 | 551.25
Total DFC |  |  |  | 4961.25
Total STOP Act |  |  |  | 96
Total |  |  |  | 5075.25
* Includes approximately 64 STOP act grantees who are also DFC grantees.
** Includes approximately 16 STOP act grantees who were prior DFC grantees.

The only cost to respondents is time they spend completing the questionnaire(s). Data collected from grantees will be made available to them for planning, implementation, and evaluation purposes. Both programs will use the same on-line data collection and reporting system as currently used by ONDCP's DFC program grantees. There are no Capital Costs to report. There are no Operating or Maintenance Costs to report.

Request for Comments: Written comments and/or recommendations from the public and affected entities are invited on one or more of the following points: (1) Whether the proposed collection of information is necessary for the proper performance or the functions of the DFC or STOP Act programs, including whether the information will have practical utility; (2) The accuracy of the agency's estimate of the burden of the proposed collection of information, including the validity of the methodology and assumptions used; (3) Ways to enhance the quality, utility, and clarity of the information to be collected; and (4) Ways to minimize the burden of the collection of information those who are able to respond, including the use of appropriate automated, electronic, mechanical, or other technological collection techniques or other forms of information technology.

Comment Deadline: Comments regarding these proposed information collections must be mailed and/or faxed to the designee listed below, within 60-days of the date of this publication:

Executive Office of the President, Office of National Drug Control Policy, Drug Free Communities Support Program, Attention: Kenneth Shapiro, Policy Analyst, Washington, DC 20503, Fax Number: 202-395-6641.

FOR FURTHER INFORMATION CONTACT: To request more information on the proposed information collections or to obtain a copy of the information collection plans and/or instruments, contact, Kenneth Shapiro, at the above address or via email or phone at: kshapiro@ondcp.eop.gov, 202-395-4681.

Dated: July 14, 2008.
Linda V. Priebe,
Assistant General Counsel, Office of National Drug Control Policy.

[FR Doc. E8-16433 Filed 7-17-08; 8:45 am]

BILLING CODE 3180-02-P